DEPARTMENT OF COMMERCE

International Trade Administration

[A-475-818]

Certain Pasta From Italy: Notice of Initiation and Preliminary Results of Antidumping Duty Changed Circumstances Review

AGENCY: Enforcement and Compliance, International Trade Administration, Department of Commerce.

SUMMARY: The U.S. Department of Commerce (Commerce) is initiating a changed circumstances review (CCR) of the antidumping duty (AD) order on certain pasta (pasta) from Italy. Further, Commerce preliminarily determines that Gruppo Milo SpA (Gruppo Milo) is the successor-in-interest to Gruppo Alimentare Mediterraneo Milo Srl (GRAMM) and should be assigned the same AD cash deposit rate as GRAMM for purposes of the AD order on pasta from Italy. Interested parties are invited to comment on these preliminary results.

DATES: Applicable July 31, 2024.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On July 24, 1996, Commerce published the AD order on pasta from Italy in the Federal Register.¹ On June 6, 2024, Commerce received a request on behalf of Gruppo Milo for a CCR, pursuant to section 751(b)(1) of the Tariff Act of 1930, as amended (the Act) and 19 CFR 351.216(b), to establish Gruppo Milo as the successor-in-interest to GRAMM, an Italian producer and exporter of pasta and, thus, entitle it to GRAMM's AD cash deposit rate.² We received no comments from other interested parties concerning this request. On July 22, 2024, Commerce tolled certain deadlines in this administrative proceeding by seven days.³ The deadline for the initiation is now July 29, 2024.

¹ See Notice of Antidumping Duty Order and Amended Final Determination of Sales at Less Than Fair Value: Certain Pasta from Italy, 61 FR 38547 (July 24, 1996) (Order).

² See Gruppo Milos's Letter, “Certain Dry Pasta from Italy—Request for Changed Circumstances Review,” dated June 6, 2024 (CCR Request).

³ See Memorandum, “Tolling of Deadlines for Antidumping and Countervailing Duty Proceedings,” dated July 22, 2024.

Scope of the Order ⁴

⁴ See Certain Pasta from Italy: Final Results of Antidumping and Countervailing Duty Changed Circumstances Reviews, 82 FR 4291 (January 13, 2017), where Commerce aligned the scope language across the AD and countervailing duty orders on pasta from Italy.

The scope of this Order covers shipments of certain non-egg dry pasta in packages of five pounds four ounces or less, whether or not enriched or fortified or containing milk or other optional ingredients such as chopped vegetables, vegetable purees, milk, gluten, diastasis, vitamins, coloring and flavorings, and two percent egg white. The pasta covered by the scope of the Order is typically sold in the retail market, in fiberboard or cardboard cartons, or polyethylene or polypropylene bags of varying dimensions.

Excluded from the scope of this Order are refrigerated, frozen, or canned pastas, as well as all forms of egg pasta, with the exception of non-egg dry pasta containing up to two percent egg white. Multicolored pasta, imported in kitchen display bottles of decorative glass that are sealed with cork or paraffin and bound with raffia, is excluded from the scope of the Order.⁵ Pursuant to Commerce's August 14, 2009, changed circumstances review, effective July 1, 2008, gluten free pasta is also excluded from the scope of the Order.⁶ Effective January 1, 2012, ravioli and tortellini filled with cheese and/or vegetables are also excluded from the scope of the Order.⁷

⁵ See Memorandum to Richard Moreland, dated August 25, 1997, which is on file in the Central Records Unit.

⁶ See Certain Pasta from Italy: Notice of Final Results of Antidumping Duty Changed Circumstances Review and Revocation, in Part, 74 FR 41120 (August 14, 2009).

⁷ See Certain Pasta from Italy: Final Results of Antidumping Duty and Countervailing Duty Changed Circumstances Reviews and Revocation, in Part, 79 FR 58319, 58320 (September 29, 2014).

Also excluded are imports of organic pasta from Italy that are certified by an EU authorized body in accordance with the United States's Department of Agriculture's National Organic Program for organic products. The organic pasta certification must be retained by exporters and importers and made available to U.S. Customs and Border Protection or the Department of Commerce upon request.

The merchandise subject to this Order is currently classifiable under items 1901.90.9095 and 1902.19.20 of the Harmonized Tariff Schedule of the United States (HTSUS). Although the HTSUS subheadings are provided for convenience and Customs purposes, the written description of the merchandise subject to the Order is dispositive.

Initiation of CCR

Pursuant to section 751(b)(1)(A) of the Act and 19 CFR 351.216(d), Commerce will conduct a CCR upon receipt of information concerning, or a request from, an interested party for a review of an AD order which shows changed circumstances sufficient to warrant a review of the order. In the past, Commerce has used CCRs to address the applicability of cash deposit rates after there have been changes in the name or structure of a respondent, such as a merger or spinoff (“successor-in-interest” or “successorship” determinations).⁸ Based on a review of Gruppo Milo's request, and in accordance with section 751(b)(1)(A) of the Act and 19 CFR 351.216(d), we find that the information submitted in the CCR Request supporting Gruppo Milo's request that it should be treated as the successor-in-interest to GRAMM is sufficient to warrant a review to determine whether Gruppo Milo is entitled to GRAMM's AD cash deposit rate.

⁸ See, e.g., Diamond Sawblades and Parts Thereof from the People's Republic of China: Initiation and Preliminary Results of Antidumping Duty Changed Circumstances Review, 82 FR 51605, 51606 (November 7, 2017) (Diamond Sawblades from China Preliminary), unchanged in Diamond Sawblades and Parts Thereof from the People's Republic of China: Final Results of Antidumping Duty Changed Circumstances Review, 82 FR 60177 (December 19, 2017) (Diamond Sawblades from China Final).

Preliminary Results

Section 351.221(c)(3)(ii) of Commerce's regulations authorizes Commerce to combine the notice of initiation of a CCR and the notice of preliminary results if Commerce concludes that expedited action is warranted. In this instance, because the record contains information necessary to make a preliminary finding and no interested parties have summitted comments on Gruppo Milo's request, we find that expedited action is warranted and have combined the notice of initiation and the notice of preliminary results.

Pursuant to section 751(b) of the Act, we have conducted a CCR using a successor-in-interest analysis in response to Gruppo Milo's request. In making a successor-in-interest determination, Commerce examines several factors, including, but not limited to, changes in the following: (1) management and ownership; (2) production facilities; (3) supplier relationships; and (4) customer base.⁹ While no single factor or combination of factors will necessarily provide a dispositive indication of a successor-in-interest relationship, generally, Commerce will consider the new company to be the successor to the previous company if the new company's resulting operation is not materially dissimilar to that of its predecessor.¹⁰ Thus, if the evidence demonstrates that, with respect to the production and sales of the subject merchandise, the new company operates essentially the same business entity as the former company, Commerce will accord the new company the same antidumping treatment as its predecessor.¹¹ In accordance with 19 CFR 351.216, we preliminarily determine that Gruppo Milo is the successor-in-interest to GRAMM for purposes of the Order and is entitled to GRAMM's AD cash deposit rate.

⁹ See, e.g., Diamond Sawblades from China Preliminary, unchanged in Diamond Sawblades from China Final; see also Certain Frozen Warmwater Shrimp from India: Initiation and Preliminary Results of Antidumping Duty Changed Circumstances Review, 83 FR 37784 (August 2, 2018), unchanged in Certain Frozen Warmwater Shrimp from India: Notice of Final Results of Antidumping Duty Changed Circumstances Review, 83 FR 49909 (October 3, 2018).

¹⁰ Id.

¹¹ See, e.g., Notice of Initiation and Preliminary Results of Antidumping Duty Changed Circumstances Review: Certain Frozen Warmwater Shrimp from India, 77 FR 64953 (October 24, 2012), unchanged in Final Results of Antidumping Duty Changed Circumstances Review: Certain Frozen Warmwater Shrimp from India, 77 FR 73619 (December 11, 2012); and Circular Welded Non-Alloy Steel Pipe from the Republic of Korea; Preliminary Results of Antidumping Duty Changed Circumstances Review, 63 FR 14679 (March 26, 1998), unchanged in Circular Welded Non-Alloy Steel Pipe from Korea: Final Results of Antidumping Duty Changed Circumstances Review, 63 FR 20572 (April 27, 1998), in which Commerce found that a company which only changed its name and did not change its operations is a successor-in-interest to the company before it changed its name.

1. Management

Gruppo Milo submitted evidence of its management before and after its name change. Gruppo Milo's evidence indicates that the board of directors, organizational chart, and ownership structure all remain the same before and after the change to its name and corporate form.¹²

¹² See CCR Request at Exhibit 3.

2. Production Facilities

Gruppo Milo submitted evidence of its production facilities, including names of the facilities, addresses, what is produced at the facilities, and contact information. Gruppo Milo's evidence indicates that there were no changes to its production facilities as a result of the changes to its name and corporate form, as Gruppo Milo operates the same three production facilities that were operated by GRAMM.¹³

¹³ Id. at Exhibit 4.

3. Supplier Relationships and Customer Base

Gruppo Milo provided lists of both its suppliers ¹⁴ and U.S. customers¹⁵ before and after the name change to support its assertion that there have been no material changes to GRAMM's suppliers or its customer base. This documentation shows that the top suppliers and customers are the same both before and after the changes to its name and corporate form.

¹⁴ Id. at Exhibit 5.

¹⁵ Id. at Exhibit 6.

In addition to the evidence above, Gruppo Milo provided documentation demonstrating approval of GRAMM's name change by GRAMM's shareholders on March 8, 2024 (the shareholders remained unchanged from prior to the name change).¹⁶ Further, as support, Gruppo Milo provided the “Visura,” or company registration report for Gruppo Milo SpA from the Milan Chamber of Commerce as it appears in the Italian Business Register—Company Registration Office.¹⁷ Gruppo Milo also provided the Visura for GRAMM for comparative reference, which shows that the basic purpose and structure of the company remains unchanged.¹⁸ The continuity between Gruppo Milo's Visura and GRAAM's Visura supports the claim that Gruppo Milo's operations with respect to sales of subject merchandise have not materially changed as a result of its name change.

¹⁶ Id. at Exhibit 1.

¹⁷ Id. at Exhibit 2.

¹⁸ Id.

Therefore, based on the record evidence discussed above, we preliminarily determine that Gruppo Milo is the successor-in-interest to GRAMM, as the change in the business' name and corporate form was not accompanied by changes to its management and ownership, production facilities, supplier relationships, or customer base. Thus, we preliminarily determine that Gruppo Milo is entitled to the same AD cash deposit rate with respect to subject merchandise as its predecessor.

Should our final results remain unchanged from these preliminary results, we will instruct U.S. Customs and Border Protection to assign entries of subject merchandise exported by Gruppo Milo the AD cash deposit rate applicable to GRAMM. Commerce will issue its final results of the review in accordance with the time limits set forth in 19 CFR 351.216(e).

Public Comment

In accordance with 19 CFR 351.309(c)(1)(ii), interested parties may submit case briefs not later than 14 days after the date of publication of this notice in the Federal Register.¹⁹ Rebuttal briefs, limited to issues raised in the case briefs, may be filed no later than five days after the case briefs, in accordance with 19 CFR 351.309(d)(1) and (2). Interested parties who submit case briefs or rebuttal briefs in this proceeding must submit: (1) a table of contents listing each issue; and (2) a table of authorities.²⁰ All comments must be filed electronically using ACCESS. An electronically filed document must be received successfully in its entirety by ACCESS by 5:00 p.m. Eastern Time on the day it is due.²¹ Note that Commerce has amended certain of its requirements pertaining to the service of documents in 19 CFR 351.303(f).²²

¹⁹ Commerce is exercising its discretion under 19 CFR 351.309(c)(1)(ii) to alter the time limit for the filing of case briefs.

²⁰ See 19 CFR 351.309(c)(2) and (d)(2).

²¹ See 19 CFR 351.303(b).

²² See Administrative Protective Order, Service, and Other Procedures in Antidumping and Countervailing Duty Proceedings; Final Rule, 88 FR 67069 (September 29, 2023).

As provided under 19 CFR 351.309(c)(2) and (d)(2), in prior proceedings we have encouraged interested parties to provide an executive summary of their brief that should be limited to five pages total, including footnotes. In this CCR, we instead request that interested parties provide at the beginning of their briefs a public, executive summary for each issue raised in their briefs.²³ Further, we request that interested parties limit their public executive summary of each issue to no more than 450 words, not including citations. We intend to use the public executive summaries as the basis of the comment summaries included in the issues and decision memorandum that will accompany the final results of this CCR. We request that interested parties include footnotes for relevant citations in the public executive summary of each issue.

²³ We use the term “issue” here to describe an argument that Commerce would normally address in a comment of the Issues and Decision Memorandum.

Pursuant to 19 CFR 351.310(c), interested parties who wish to request a hearing must submit a written request via ACCESS within 14 days of publication of this notice.²⁴ Hearing requests should contain: (1) the party's name, address, and telephone number; (2) the number of participants; and (3) a list of issues to be discussed. Issues raised in the hearing will be limited to those raised in the respective briefs. If a request for a hearing is made, Commerce will inform parties of the scheduled date for the hearing.²⁵ Parties should confirm the date and the time of the hearing two days before the scheduled date.

²⁴ Commerce is exercising its discretion under 19 CFR 351.310(c) to alter the time limit for requesting a hearing.

²⁵ See 19 CFR 351.310(d)(1).

Final Results

Unless the deadline is extended, pursuant to 19 CFR 351.216(e), Commerce intends to issue the final results of this CCR no later than 270 days after the date on which this review was initiated, or within 45 days if all parties agree to our preliminary finding.

Notification to Interested Parties

This notice is published in accordance with sections 751(b)(1) and 777(i) of the Act and 351.221(b)(1) and 351.221(c)(3)(ii).

Dated: July 25, 2024.
Ryan Majerus,
Deputy Assistant Secretary for Policy and Negotiations, performing the non-exclusive functions and duties of the Assistant Secretary for Enforcement and Compliance.

[FR Doc. 2024-16893 Filed 7-30-24; 8:45 am]

BILLING CODE 3510-DS-P